CORPORATION FOR NATIONAL AND COMMUNITY SERVICE

Information Collection; Submission for OMB Review, Comment Request

AGENCY: Corporation for National and Community Service.

ACTION: Notice.

SUMMARY: The Corporation for National and Community Service (CNCS) has submitted a public information collection request (ICR) entitled Senior Corps Independent Living Impact Evaluation Study for review and approval in accordance with the Paperwork Reduction Act of 1995, Public Law 104-13, (44 U.S.C. Chapter 35). Copies of this ICR, with applicable supporting documentation, may be obtained by calling the Corporation for National and Community Service, Wanda Carney, at (202) 606-6934 or email to wcarney@cns.gov. Individuals who use a telecommunications device for the deaf (TTY-TDD) may call 1-800-833-3722 between 8:00 a.m. and 8:00 p.m. Eastern Time, Monday through Friday.

ADDRESSES: Comments may be submitted, identified by the title of the information collection activity, to the Office of Information and Regulatory Affairs, Attn: Ms. Sharon Mar, OMB Desk Officer for the Corporation for National and Community Service, by any of the following two methods within 30 days from the date of publication in the Federal Register:

(1) By fax to: (202) 395-6974, Attention: Ms. Sharon Mar, OMB Desk Officer for the Corporation for National and Community Service; or

(2) By email to: smar@omb.eop.gov.

SUPPLEMENTARY INFORMATION: The OMB is particularly interested in comments which:

• Evaluate whether the proposed collection of information is necessary for the proper performance of the functions of CNCS, including whether the information will have practical utility;

• Evaluate the accuracy of the agency's estimate of the burden of the proposed collection of information, including the validity of the methodology and assumptions used;

• Propose ways to enhance the quality, utility, and clarity of the information to be collected; and

• Propose ways to minimize the burden of the collection of information on those who are to respond, including through the use of appropriate automated, electronic, mechanical, or other technological collection techniques or other forms of information technology.

Comments

A 60-day public comment Notice was published in the Federal Register on November 27, 2012. This comment period ended January 26, 2013. No public comments were received from this Notice.

Description: CNCS is seeking approval of its Senior Corps Independent Living Impact Evaluation Study. This project will assess the impact of the Senior Companion Program on clients' self-efficacy, life satisfaction, and perceived social ties and social supports. Copies of the information collection request can be obtained by contacting the office listed in the addresses section of this Notice. The anticipated sample size for the pilot pre/post study is 500 new Senior Companion clients. This expanded sample size will increase the precision of future calculations because it provides a more:

• Valid estimate of the effect of participating as a Senior Companion client (i.e. “effect size”) that is based on multiple sites;

• precise estimate of the variability among clients regarding key indicators that might be included in a definitive study; and

• valid estimate of the appropriate follow-up time required to measure change in a follow-up study.

Type of Review: New.

Agency: Corporation for National and Community Service.

Title: Senior Corps Independent Living Impact Evaluation Study.

OMB Number: TBD.

Agency Number: None.

Affected Public: Senior Companion Program new and established clients and program directors.

Total Respondents for established clients: 1,400.

Frequency for established clients: One.

Average Time per Response for established clients: 20 minutes.

Total Respondents for new clients: 500.

Frequency for new clients: Three.

Average Time per Response for established clients: 60 minutes.

Total Respondents for program directors: 61.

Frequency for program directors: One.

Average Time per Response for program directors: 60 minutes.

Estimated Total Burden Hours: 1023 hours.

Total Burden Cost (capital/startup): None.

Total Burden Cost (operating/maintenance): None.

Dated; June 11, 2013.
Christopher Spera,
Director of Research and Evaluation.

[FR Doc. 2013-14601 Filed 6-18-13; 8:45 am]

BILLING CODE 6050-28-P